DEPARTMENT OF TRANSPORTATION

Federal Transit Administration

Limitation on Claims Against Proposed Public Transportation Projects

AGENCY: Federal Transit Administration (FTA), DOT.

ACTION: Notice.

SUMMARY: This notice announces final environmental actions taken by the Federal Transit Administration (FTA) for projects in Denver, Colorado, Portland, Oregon, and Las Vegas, Nevada. The purpose of this notice is to announce publicly the environmental decisions by FTA on the subject projects and to activate the limitation on any claims that may challenge these final environmental actions.

DATES: By this notice, FTA is advising the public of final agency actions subject to 23 U.S.C. 139(l). A claim seeking judicial review of FTA actions announced herein for the listed public transportation projects will be barred unless the claim is filed on or before May 26, 2020.

FOR FURTHER INFORMATION CONTACT: Nancy-Ellen Zusman, Assistant Chief Counsel, Office of Chief Counsel, (312) 353-2577 or Juliet Bochicchio, Environmental Protection Specialist, Office of Environmental Programs, (202) 366-9348. FTA is located at 1200 New Jersey Avenue SE, Washington, DC 20590. Office hours are from 9:00 a.m. to 5:00 p.m., Monday through Friday, except Federal holidays.

SUPPLEMENTARY INFORMATION: Notice is hereby given that FTA has taken final agency actions by issuing certain approvals for the public transportation projects listed below. The actions on the projects, as well as the laws under which such actions were taken, are described in the documentation issued in connection with the projects to comply with the National Environmental Policy Act (NEPA) and in other documents in the FTA environmental project file for the projects. Interested parties may contact either the project sponsor or the relevant FTA Regional Office for more information. Contact information for FTA's Regional Offices may be found at https://www.fta.dot.gov.

This notice applies to all FTA decisions on the listed projects as of the issuance date of this notice and all laws under which such actions were taken, including, but not limited to, NEPA [42 U.S.C. 4321-4375], Section 4(f) requirements [23 U.S.C. 138, 49 U.S.C. 303], Section 106 of the National Historic Preservation Act [54 U.S.C. 306108], and the Clean Air Act [42 U.S.C. 7401-7671q]. This notice does not, however, alter or extend the limitation period for challenges of project decisions subject to previous notices published in the Federal Register. The projects and actions that are the subject of this notice follow:

1. Project name and location: The16th Street Mall Improvement Project in Denver, Colorado. Project Sponsor: The Regional Transportation District and the City and County of Denver. Project description: The 16th Street Mall Improvement Project will reconstruct the 16th Street Mall between Market Street and Broadway. The project will reconstruct 12.5 blocks of the historic 16th Street Mall to address infrastructure, mobility, safety and public use needs and install a new granite paver system with improved surface friction and proper drainage. The spatial reconfiguration will create wider pedestrian areas, transit lanes will be consolidated in the center of the Mall, and the Free MallRide shuttle bus service will continue. Final agency action: Section 4(f) determination of the historic 16th Street Mall, concurrence dated October 4, 2019; Section 106 finding of adverse effect to the historic 16th Street Mall, concurrence dated June 5, 2018, and executed Section 106 Programmatic Agreement, dated September 18, 2019; and the 16th Street Mall Alternatives Analysis and Environmental Clearance Finding of No Significant Impact, dated November 25, 2019. Supporting Documentation: the 16th Street Mall Alternatives Analysis and Environmental Assessment, April, 2019; and the 16th Street Mall Alternatives Analysis and Environmental Assessment Errata Sheet, November, 2019.

2. Project name and location: MAX Red Line Extension and Reliability Improvements Project, Portland, Oregon. Project Sponsor: The Tri-County Metropolitan Transportation District of Oregon. Project description: The MAX Red Line Extension and Reliability Improvements Project includes capital improvements of the MAX light rail system at four station locations to improve MAX systemwide reliability. The project will extend MAX Red Line service to ten existing MAX Blue Line stations from west of the Beaverton Transit Center to a terminus at the existing Fair Complex/Hillsboro Airport Station. Final agency actions: Section 4(f) exception and Section 4(f) de minimis impact determination; Section 106 finding of no adverse effect, concurrence dated August 16 and 19, 2019; and determination of the applicability of a Categorical Exclusion pursuant to 23 CFR 771.118(d), dated October 1, 2019. Supporting documentation: Documented Categorical Exclusion checklist and supporting materials, dated July 9, 2019.

3. Project name and location: Maryland Parkway High Capacity Transit Project, City of Las Vegas, Nevada. Project Sponsor: The Regional Transportation Commission of Southern Nevada. Project description: The project consists of an 8.7-mile-long route that will replace the existing local Route 109 bus service with an enhanced bus rapid transit system from Las Vegas Medical District to the Bonneville Transit Center and through downtown Las Vegas, along Maryland Parkway to Russell Road. The project encompasses the construction of 24 new bus stations, with accompanying 44 new platforms, spaced approximately 0.35-mile apart, and all associated bus rapid transit roadway and hard surface improvements. Final agency action: Section 4(f) de minimis impact determination; project-level air quality conformity; Section 106 finding of no adverse effect to historic properties, concurrence dated July 18, 2019; and Maryland Parkway High Capacity Transit Project Finding of No Significant Impact, dated December 16, 2019. Supporting Documentation: Maryland Parkway High Capacity Transit Environmental Assessment, November, 2019.

Authority: Authority: 23 U.S.C. 139(l)(1).

Felicia L. James,
Associate Administrator for Planning and Environment.

[FR Doc. 2019-27902 Filed 12-26-19; 8:45 am]

BILLING CODE P